DEPARTMENT OF ENERGY

Federal Energy Regulatory Commission

Combined Notice of Filings #1

Take notice that the Commission received the following electric rate filings:

Docket Numbers: ER10-1910-020; ER10-1911-020.

Applicants: Duquesne Light Company, Duquesne Power, LLC.

Description: Notice of Change in Status of the Duquesne MBR Sellers.

Filed Date: 2/25/20.

Accession Number: 20200225-5206.

Comments Due: 5 p.m. ET 3/17/20.

Docket Numbers: ER18-1960-002.

Applicants: Tenaska Pennsylvania Partners, LLC.

Description: Notification of Change in Status of Tenaska Pennsylvania Partners, LLC.

Filed Date: 2/26/20.

Accession Number: 20200226-5212.

Comments Due: 5 p.m. ET 3/18/20.

Docket Numbers: ER18-2513-003.

Applicants: Midcontinent Independent System Operator, Inc.

Description: Report Filing: 2020-02-21_Errata to Compliance Filing to Address Self-Fund to be effective N/A.

Filed Date: 2/21/20.

Accession Number: 20200221-5108.

Comments Due: 5 p.m. ET 3/13/20.

Docket Numbers: ER20-609-001.

Applicants: Ohio Power Company, AEP Ohio Transmission Company, Inc., PJM Interconnection, L.L.C.

Description: Compliance filing: Ohio Power submits Compliance filing in Docket No. ER20-609 (Buckeye ILDSA) to be effective 2/14/2020.

Filed Date: 2/26/20.

Accession Number: 20200226-5084.

Comments Due: 5 p.m. ET 3/18/20.

Docket Numbers: ER20-1072-000.

Applicants: Midcontinent Independent System Operator, Inc., ALLETE, Inc.

Description: § 205(d) Rate Filing: 2020-02-25_SA 3411 SRC-SWLP Construction Agreement (Nemadji) to be effective 2/26/2020.

Filed Date: 2/25/20.

Accession Number: 20200225-5149.

Comments Due: 5 p.m. ET 3/17/20.

Docket Numbers: ER20-1073-000.

Applicants: SR Terrell, LLC.

Description: Baseline eTariff Filing: MBR Application to be effective 4/25/2020.

Filed Date: 2/25/20.

Accession Number: 20200225-5163.

Comments Due: 5 p.m. ET 3/17/20.

Docket Numbers: ER20-1074-000.

Applicants: Marsh Landing LLC.

Description: Initial rate filing: Filing of Black Start Agreement to be effective 4/26/2020.

Filed Date: 2/25/20.

Accession Number: 20200225-5166.

Comments Due: 5 p.m. ET 3/17/20.

Docket Numbers: ER20-1075-000.

Applicants: California Independent System Operator Corporation.

Description: § 205(d) Rate Filing: 2020-02-25 CPM Soft Offer Cap Initiative to be effective 6/1/2020.

Filed Date: 2/25/20.

Accession Number: 20200225-5168.

Comments Due: 5 p.m. ET 3/17/20.

Docket Numbers: ER20-1076-000.

Applicants: Emera Maine.

Description: Tariff Cancellation: Notice of Termination of Interconnection Agreement—ReEnergy Fort Fairfield LLC to be effective 2/24/2020.

Filed Date: 2/26/20.

Accession Number: 20200226-5040.

Comments Due: 5 p.m. ET 3/18/20.

Docket Numbers: ER20-1077-000.

Applicants: Emera Maine.

Description: Tariff Cancellation: Notice of Termination of Expired Service Agreement—ReEnergy Fort Fairfield LLC to be effective 2/24/2020.

Filed Date: 2/26/20.

Accession Number: 20200226-5042.

Comments Due: 5 p.m. ET 3/18/20.

Docket Numbers: ER20-1078-000.

Applicants: Midcontinent Independent System Operator, Inc., Ameren Illinois Company.

Description: § 205(d) Rate Filing: 2020-02-26_Ameren Illinois Company Att O Materials & Supplies filing to be effective 6/1/2020.

Filed Date: 2/26/20.

Accession Number: 20200226-5059.

Comments Due: 5 p.m. ET 3/18/20.

Docket Numbers: ER20-1079-000.

Applicants: Midcontinent Independent System Operator, Inc., Ameren Transmission Company of Illinois.

Description: § 205(d) Rate Filing: 2020-02-26_Ameren Transmission Company of Illinois Att O Materials & Supplies to be effective 6/1/2020.

Filed Date: 2/26/20.

Accession Number: 20200226-5061.

Comments Due: 5 p.m. ET 3/18/20.

Docket Numbers: ER20-1080-000.

Applicants: Midcontinent Independent System Operator, Inc., Union Electric Company.

Description: § 205(d) Rate Filing: 2020-02-26_Union Electric Company Att O Materials & Supplies filing to be effective 6/1/2020.

Filed Date: 2/26/20.

Accession Number: 20200226-5067.

Comments Due: 5 p.m. ET 3/18/20.

Docket Numbers: ER20-1081-000.

Applicants: Southwest Power Pool, Inc.

Description: § 205(d) Rate Filing: Attachment V GIA Pro Forma CleanUp Filing to be effective 1/23/2020.

Filed Date: 2/26/20.

Accession Number: 20200226-5189.

Comments Due: 5 p.m. ET 3/18/20.

Docket Numbers: ER20-1082-000.

Applicants: Oklahoma Gas and Electric Company.

Description: Order No. 864 Compliance Filing of Oklahoma Gas and Electric Company.

Filed Date: 2/26/20.

Accession Number: 20200226-5222.

Comments Due: 5 p.m. ET 3/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2020.
Nathaniel J. Davis, Sr.,
Deputy Secretary.

[FR Doc. 2020-04399 Filed 3-3-20; 8:45 am]

BILLING CODE 6717-01-P